FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012068.

Title: Grand Alliance/Zim/HSDG Atlantic Space Charter Agreement.

Parties: Hapag-Lloyd AG, Nippon Yusen Kaisha, Orient Overseas Container Lines Inc., Orient Overseas Container Line Limited, Orient Overseas Container Line (Europe) Limited, Zim Integrated Shipping Services Limited, and Hamburg Süd KG.

Filing Party: Wayne Rohde, Esq.; Sher & Blackwell LLP; 1850 M Street, NW., Suite 900; Washington, DC 20036.

Synopsis: The agreement authorizes Hamburg Süd to charter space from the other parties in the trade between North Europe and the U.S. Atlantic Coast. The parties have requested expedited review.

By Order of the Federal Maritime Commission.
Dated: May 5, 2009.
Karen V. Gregory,
Secretary.

[FR Doc. E9-10761 Filed 5-7-09; 8:45 am]

BILLING CODE 6730-01-P